NUCLEAR REGULATORY COMMISSION

10 CFR Part 50

[NRC-2010-0366]

Proposed Generic Communications Reporting for Decommissioning Funding Status Reports

AGENCY: Nuclear Regulatory Commission.

ACTION: Proposed generic communication; Reopening of comment period.

SUMMARY: The U.S. Nuclear Regulatory Commission (NRC) is reopening the public comment period for the proposed regulatory issue summary (RIS) that was published on November 26, 2010 (75 FR 72737). The purpose of the RIS is to clarify for licensees and external stakeholders the information that they should use and present to the NRC in the Decommissioning Funding Status reports to ensure that the NRC staff, licensees, and stakeholders are using the same, correct figures and to prevent potential issues resulting from shortfalls in the licensee's decommissioning fund. The comment period for this RIS, which closed on December 27, 2010, is reopened and will remain open until March 5, 2011.

DATES: The comment period has been reopened and now closes on March 5, 2011. Comments received after this date will be considered if it is practical to do so, but the NRC is able to assure consideration only for comments received on or before this date.

ADDRESSES: Please include Docket ID NRC-2010-0366 in the subject line of your comments. Comments submitted in writing or in electronic form will be posted on the NRC Web site and on the Federal rulemaking Web site, Regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed. You may submit comments by any one of the following methods:

Federal rulemaking Web site: Go to http://www.regulations.gov and search for documents filed under Docket ID NRC-2010-0366. Address questions about NRC dockets to Carol Gallagher, telephone: 301-492-3668, e-mail: Carol.Gallagher@nrc.gov.

Mail comments to: Chief, Rules, Directives, and Announcements Branch, Division of Administrative Services, Office of Administration, U.S. Nuclear Regulatory Commission, Mail Stop TWB-05-B01M, Washington, DC 20555-0001, or by fax to 301-492-3446.

You can access publicly available documents related to this document using the following methods:

NRC's Public Document Room (PDR): The public may examine and have copied for a fee publicly available documents at the NRC's PDR, Room O1 F21, One White Flint North, 11555 Rockville Pike, Rockville, Maryland 20852.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Draft Regulatory Issue Summary 2010-XXX, “10 CFR 50-75, Reporting for Decommissioning Funding Status Reports” is available electronically under ADAMS Accession Number ML102640060.

Federal rulemaking Web site: Public comments and supporting materials related to this document can be found at http://www.regulations.gov by searching on Docket ID: NRC-2010-0366.

FOR FURTHER INFORMATION CONTACT: Aaron L. Szabo, Office of Nuclear Reactor Regulation, U.S. Nuclear Regulatory Commission, Washington, DC 20555-0001; telephone: 301-415-1985; e-mail: Aaron.Szabo@nrc.gov.

For the Nuclear Regulatory Commission.
Theodore R. Quay,
Deputy Director, Division of Policy and Rulemaking, Office of Nuclear Reactor Regulation.

[FR Doc. 2011-1140 Filed 1-19-11; 8:45 am]

BILLING CODE 7590-01-P